FEDERAL COMMUNICATIONS COMMISSION

47 CFR Part 64

[CG Docket No. 03-123; FCC 06-57]

Telecommunications Relay Services and Speech-to-Speech Services for Individuals With Hearing and Speech Disabilities; Video Relay Service Interoperability

AGENCY: Federal Communications Commission.

ACTION: Proposed rule.

SUMMARY: In this document, the Commission seeks comment on whether and how an open global database of proxy numbers of Video Relay Service (VRS) users may be created so that a hearing person may call a VRS user through any VRS provider without having to ascertain the first VRS user's current Internet-Protocol (IP) address.

DATES: Comments are due on or before July 17, 2006. Reply comments are due on or before July 31, 2006. Written comments on the Paperwork Reduction Act (PRA) proposed information collection requirements must be submitted by the general public, Office of Management and Budget (OMB), and other interested parties on or before July 31, 2006.

ADDRESSES: You may submit comments, identified by [CG Docket number 03-123 and/or FCC Number 06-57], by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone (202) 418-0539 or TTY: (202) 418-0432.

For detailed instructions for submitting comments and additional information on the rulemaking process, see the SUPPLEMENTARY INFORMATION section of this document. In addition, a copy of any comments on the PRA information collection requirements contained herein should be submitted to Leslie Smith, Federal Communications Commission, Room 1-A804, 445 12th Street, SW., Washington, DC 20554, or via the Internet to Leslie.Smith@fcc.gov, and to Kristy L. LaLonde, OMB Desk Officer, Room 10234 NEOB, 725 17th Street, NW., Washington, DC 20503, or via the Internet to Kristy_L._LaLonde@omb.eop.gov, or via fax at (202) 395-5167.

FOR FURTHER INFORMATION CONTACT: Thomas Chandler, Consumer & Governmental Affairs Bureau, Disability Rights Office at (202) 418-1475 (voice), (202) 418-0597 (TTY), or e-mail at Thomas.Chandler@fcc.gov. For additional information concerning the Paperwork Reduction Act information collection requirements contained in this document, contact Leslie Smith at (202) 418-0217, or via the Internet at Leslie.Smith@fcc.gov.

SUPPLEMENTARY INFORMATION: The Further Notice of Proposed Rulemaking (FNPRM), Telecommunications Relay Services and Speech-to-Speech Services for Individuals with Hearing and Speech Disabilities; CG Docket No. 03-123, FCC 06-57, contains proposed information collection requirements subject to the PRA of 1995, Public Law 104-13. It will be submitted to the Office of Management and Budget (OMB) for review under section 3507 of the PRA. OMB, the general public, and other Federal agencies are invited to comment on the proposed information collection requirements contained in this document. This is a summary of the Commission's FNPRM, FCC 06-57, adopted May 3, 2006, and released May 9, 2005, in CG Docket No. 03-123.

Pursuant to §§ 1.415 and 1.419 of the Commission's rules, 47 CFR 1.415 and 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number, which in this instance is CG Docket No. 03-123. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. If more than one docket or rulemaking number appears in the caption in this proceeding, filers must submit two additional copies of each additional docket or rulemaking number.

Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Pursuant to § 1.1200 of the Commission's rules, 47 CFR 1.1200, this matter shall be treated as a “permit-but-disclose” proceeding in accordance with the Commission's ex parte rules. Persons making oral ex parte presentations are reminded that memoranda summarizing the presentations must contain summaries of the substance of the presentation and not merely a listing of the subjects discussed. More than a one or two sentence description of the views and arguments presented is generally required. Other requirements pertaining to oral and written presentations are set forth in § 1.1206(b) of the Commission's rules.

People with Disabilities: To request materials in accessible formats for people with disabilities (Braille, large print, electronic files, audio format), send an e-mail to fcc504@fcc.gov or call the Consumer & Governmental Affairs Bureau at (202) 418-0530 (voice), (202) 418-0432 (TTY).

Initial Paperwork Reduction Act of 1995 Analysis

The FNPRM contains proposed information collection requirements. The Commission, as part of its continuing effort to reduce paperwork burdens, invites the general public and the Office of Management and Budget (OMB) to comment on the information collection requirements contained in this document, as required by the PRA of 1995, Public Law 104-13. Public and agency comment are due July 31, 2006. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), the Commission seeks specific comment on how it may “further reduce the information collection burden for small business concerns with fewer than 25 employees.”

OMB Control Number: 3060-XXXX.

Title: Telecommunications Relay Services and Speech-to-Speech Services for Individuals with Hearing and Speech Disabilities; Video Relay Service (VRS) Interoperability, Further Notice of Proposed Rulemaking, CG Docket No. 03-123.

Form No.: N/A.

Type of Review: New collection.

Number of Respondents: 8.

Number of Responses: 3,000,000.

Respondents: Business and other for-profit entities; State, Local or Tribal Government.

Estimated Time per Response: 40 to 1,000 hours.

Frequency of Response: Annual and one-time reporting requirement; recordkeeping; third party disclosure.

Total Annual Burden: 11,840 hours.

Total Annual Costs: $0.

Privacy Act Impact Assessment: No impact(s).

Needs and Uses: On May 9, 2006, the Commission released a Declaratory Ruling and Notice of Proposed Rulemaking (FNPRM), In the Matter of Telecommunications Relay Services and Speech-to-Speech Services for individuals with Hearing and Speech Disabilities, CG Docket No. 03-123, FCC 06-57. In this FNPRM:

The Commission seeks comment on the feasibility of establishing a single, open, and global database of proxy numbers for VRS users that would be available to all service providers, so that a hearing person can call a VRS user through any VRS provider, and without having first to ascertain the VRS user's current IP address.

The Commission also seeks comment on nature of the proxy numbers that might be used and how they might be administered.

The Commission seeks comment on the role of the Commission in creating and maintaining the database.

In this FNPRM, the Commission recognizes: (a) That when a hearing person contact a VRS user by calling a VRS provider, the calling party has to know in advance the IP address of the VRS user so that the calling party can give that address to the VRS CA; (b) that because most consumers' IP addresses are dynamic, the VRS consumer may not know the IP address of his or her VRS equipment at a particular time; (c) that some VRS providers have created their own database of “proxy” or “alias” numbers that associate with the IP address of their customers, even if a particular person's IP address is dynamic and changes; (d) that databases are maintained by the service provider and, generally, are not shared with other service providers; and (e) that a person desiring to call a VRS consumer via the consumer's proxy number can only use the services of the VRS provider that generates the number.

The FNPRM contains the following information collection requirements involving an open, global database of VRS proxy numbers.

The FNPRM seeks comment on: (1) Whether VRS providers should be required to provide information to populate an open, global database of VRS proxy numbers and to keep the information current; (2) whether the Interstate TRS Fund administrator, a separate entity, or a consortium of service providers should be responsible for the maintenance and operation of an open, global database of VRS proxy numbers; (3) whether Deaf and hard of hearing individuals using video broadband communication need uniform and static end-point numbers should be linked to the North American Numbering Plan (NANP) that which would remain consistent across all VRS providers so that they can contact one another and be contacted to the same extent that Public Switched Telephone Network (PSTN) and VoIP users are able to identify and call one another; (4) whether participation by service providers should be mandatory so that all VRS users can receive incoming calls.

Synopsis

California Coalition of Agencies Serving the Deaf and Hard of Hearing is a coalition of eight community-based nonprofit agencies providing various social services to deaf and hard-of-hearing consumers in California, (CCASDHH or Petitioner) filed a Petition for Declaratory Ruling that raises the issue of VRS providers using a proprietary database of “proxy” or “alias” numbers that allow their customers to use their existing telephone number (or some other number) as a proxy for their Internet Protocol (IP) address. California Coalition of Agencies Serving the Deaf and Hard of Hearing (CCASDHH or Petitioner), Petition for Declaratory Ruling on Interoperability, CC Docket No. 98-67, CG Docket No. 03-123, filed February 15, 2005. This arrangement permits a VRS provider to determine automatically the IP address of a VRS user when a hearing person initiates a VRS call. These databases, however, are generally used only for calls made via one provider's service and using that provider's equipment. The FNPRM seeks comment on whether and how an open and global database of proxy number for VRS users may be created so that a hearing person may call a VRS user through any VRS provider without having to ascertain first the VRS user's current IP address. The Commission also seeks comment in the FNPRM on whether it should adopt specific Internet protocols or standards to ensure that all VRS providers can receive calls from, and make calls to, any VRS consumer, and all VRS consumers can make calls through any VRS provider.

Traditional TRS and VRS

When Congress enacted section 225 of the Communications Act, and the Commission implemented the TRS, relay calls were placed using a text telephone device (TTY) connected to the Public Switched Telephone Network (PSTN). In such a “traditional” TRS call, a person with a hearing (or speech) disability dials a telephone number for a TRS facility using a TTY. In this context, the first step for the TRS user, the completion of the outbound call to the TRS facility, is functionally equivalent to receiving a “dial tone.” Both persons with hearing and speech disabilities and voice telephone users can initiate a traditional TRS call by dialing 711 to reach a TRS provider. See, e.g., 47 CFR 64.601(1).

VRS allows persons using American Sign Language (ASL) to access the telephone system through a broadband Internet video connection between the VRS user and the communications assistant (CA). A VRS user may initiate a VRS call either via a VRS provider's Web site or directly through VRS equipment connected to the Internet. With VRS, the dial tone equivalent is when the VRS user establishes a video connection with the CA, who then places an outbound telephone call to a hearing person. During the call, the CA communicates in ASL with the VRS user and by voice with the hearing person. The conversation between the two end users flows in near real time and in a faster manner than with a TTY or a text-based TRS call. VRS, therefore, provides a degree of “functional equivalency” that is not attainable with text-based TRS by allowing those persons whose primary language is ASL to communicate in sign language, just as a hearing person communicates in, e.g., spoken English.

A hearing person may also initiate a VRS call by calling a VRS provider through a toll-free telephone number. However, unlike the voice telephone network, VRS equipment is not linked to a uniform numbering system that correlates to a VRS user's IP address. Most VRS users have “dynamic” IP addresses, which are temporary addresses assigned to the user by an Internet service provider, and change periodically. This makes it difficult for a hearing person to know in advance the IP address of the VRS user he or she desires to call. If the calling party is not calling a VRS user through a VRS provider that maintains a database of its customers' IP addresses, the calling party must determine in advance the VRS user's correct IP address and give that address to the VRS provider.

The Petition

Petitioner addresses Sorenson's practice of using a database of “proxy” numbers that allows its customers to use their existing telephone number (or some other number) as a proxy for their IP address. Petition at 3-4, notes 3, 5-6. This arrangement permits a hearing person to call a VRS user through Sorenson without having to know the VRS user's IP address. Petitioner asserts that this “restricted database” precludes a hearing person from making a VRS call through another provider's service using the VRS user's proxy number. Petition at 6. Petitioner notes thats although a hearing person may still be able to call a VRS user by providing the VRS provider with the VRS user's IP address, most VRS users have dynamic IP addresses so that they likely do not know their IP address to give to the calling party. Petition at 6. The Petition asserts that acquiring a static (i.e., permanent) IP address is costly and that consumers generally do not have such IP addresses. Petition at 3, notes 3, 6.

The Comments

Commenters addressed the use of proxy numbers for the IP addresses of VRS users. CSD notes, for example, that presently “there is no uniform means of identifying and accessing VRS users that offers the ease of the North American Numbering Plan (NANP) enjoyed by voice users.” Instead, CSD asserts, each VRS provider has its own system for enabling hearing persons to make a relay call to a VRS user. CSD maintains that this results in serious confusion for hearing individuals who want to make a VRS call and requires them to have “the specific provider information and extension of the individual they are trying to reach.” CSD states that a “seamless numbering scheme” is needed that will allow all VRS users—deaf and hearing—to contact each other with the same ease that other telephone users do so. Finally, CSD notes that such a numbering scheme would facilitate the handling of emergency calls.

Sorenson responds that, because VRS equipment is generally connected to the Internet through a dynamic IP address, it developed a means by which callers can reach a device identified by an IP address. Sorenson assigns a unique number to each videophone (usually the consumer's telephone number), and the VP-100 and Sorenson's servers “work together to match the unique identifier with the user's dynamic IP address.” As a result, Sorenson creates a directory “that matches pseudo phone numbers (which remain constant) with dynamic IP addresses,” so that a hearing person seeking to call a Sorenson VRS user can do so by calling a Sorenson and providing the CA with the VRS user's “phone number.” Sorenson states that this “proprietary videophone number dialing feature is part of Sorenson's integrated VRS solution and is not available independently of the VP-100.” Sorenson claims that “users find this feature very helpful because the videophone number does not change and there is no need to acquire a static (fixed) IP address or domain name.”

The FNPRM

In this FNPRM, the Commission addresses two issues: (1) The feasibility of establishing a single global database of proxy numbers for VRS users that would be available to all service providers, so that a hearing person can call a VRS user through any VRS provider, and without having first to ascertain the VRS user's current IP address; and (2) whether the Commission should adopt specific Internet protocols or standards to ensure that all VRS providers can receive calls from, and make calls to, any VRS consumer, and all VRS consumers can make calls through any VRS provider.

Proxy Numbers for VRS Users. As noted above, a hearing person may contact a VRS user by calling a VRS provider's toll free number. The VRS CA, however, will be able to establish the video-to-video link with the VRS user only if the CA knows the IP address of the VRS user's equipment. Often, that requires that the calling party know in advance the IP address of the VRS user so that the calling party can give that address to the VRS CA. Because most consumers' IP addresses are dynamic, the VRS consumer may not know the IP address of his or her VRS equipment at a particular time.

Some providers have created their own database of “proxy” or “alias” numbers that associate with the IP addresses of their customers, even if a particular person's IP address is dynamic and changes. These numbers often resemble telephone numbers, which makes it easier for VRS users to give their “number” to hearing persons who may wish call them via VRS. These databases, however, are maintained by the service provider and, generally, are not shared with other service providers. Therefore, a person desiring to call a VRS consumer via the consumer's proxy number can only use the services of the VRS provider that generates the number. See, e.g., Sorenson Ex Parte (January 6, 2006) at 16.

In the FNPRM, the Commission seeks comment on the feasibility of establishing a single, open, and global database of proxy numbers for VRS users that would be available to all service providers, so that a hearing person can call a VRS user through any VRS provider, and without having first to ascertain the VRS user's current IP address. In assessing the feasibility of this proposal, commenters should address both technical and the economic issues. Technical issues include the need for standard protocols so that the database system can work with all VRS equipment and services. The Commission also seeks comment on whether there are aspects of proxy numbers that are dependent on functionalities outside of a database, such as functionalities in the user's equipment. If so, parties should address whether standardization is required. Commenters should address any other technical issues they believe are relevant to this issue.

The Commission also seeks comment on nature of the proxy numbers that might be used and how they might be administered. As the Commission has noted, some VRS databases associate users with ten-digit telephone numbers. Others allow the user to create their own unique identification. Communication Service for the Deaf (CSD) states that “in order for VRS to be functionally equivalent to voice telephone services, deaf and hard of hearing individuals using video broadband communication need uniform and static end-point numbers linked to the North American Numbering Plan (NANP) that will remain consistent across all VRS providers so that they can contact one another and be contacted to the same extent that Public Switched Telephone Network (PSTN) and VoIP users are able to identify and call one another.” CSD Ex Parte (October 20, 2005) at 3. Accordingly, CSD urges that this matter be referred to the North American Numbering Council (NANC). The Commission seeks comment on this approach.

The Commission further seeks comment on the maintenance and operation of such a database. Commenters should address whether this type of database should be the responsibility of the Fund administrator, a separate entity, or a consortium of service providers. Commenters that urge creation of an oversight committee should specify the scope and composition of the committee.

Finally, the Commission seeks comment on the role of the Commission in creating and maintaining the database. Commenters should address what specific rule changes would be necessary to establish the database. Commenters should also address whether participation by service providers should be mandatory so that all VRS users can receive incoming calls. Finally, the Commission seeks comment on what ongoing Commission oversight or regulation, if any, would be necessary.

Adoption of Specific VRS Internet Protocols or Standards. Videophones and other devices that send video via the Internet to make VRS calls operate via specific call signaling protocols or standards that connect the two endpoints to the call. Internet telephony requires standards or protocols so that the end-user devices can communicate with each other. H.323 is one standard for transmitting real-time voice and video over packet-based networks. Another newer standard is SIP (Session Initiation Protocol). In declining to mandate the provision of VRS in the Improved TRS Order, the Commission stated because VRS was in its early stages of technological development the Commission would “permit market forces, not the Commission, to determine the technology and equipment best suited for the provision of [VRS], and allow[] for the development of new and improved technology.” Telecommunications Relay Services and Speech-to-Speech Services for Individuals with Hearing and Speech Disabilities, CC Docket No. 98-67, Report and Order and Further Notice of Proposed Rulemaking, (Improved TRS Order), 15 FCC Rcd 5153, paragraph 23; published at 65 FR 38432 (June 21, 2000) and 65 FR 38490 (June 21, 2000).

With traditional TRS, the Commission initially proposed requiring TTYs to be capable of communicating in either ASCII or Baudot formats. Telecommunications Services for Hearing-Impaired and Speech-Impaired Individuals, and the Americans with Disabilities Act of 1990, CC Docket No. 90-571, Notice of Proposed Rulemaking, 5 FCC Rcd 7187, 7188-7189, paragraph 12 (November 16, 1990); published at 55 FR 50037 (December 4, 1990) (noting that although ASCII offers a higher data transfer rate, not all TTY users have compatible equipment and rely instead “on Baudot code equipment”). Baudot code was developed in the late 1800's and is a 5 bit coding scheme limited to 32 characters. ASCII was developed in the 1960's and is a 7 bit coding scheme specifically intended for data processing. See generally R. Horak, Communications Systems and Networks at 196-198 (3rd edition 2002). In adopting the TRS regulations, the Commission noted that both codes were being used by TTY users and existing TRS providers, although ASCII was the superior technology and had the advantage of being able to be used by personal computers. Telecommunications Relay Services and Speech-to-Speech Services for Individuals with Hearing and Speech Disabilities, CC Docket No. 90-571, Report and Order and Request for Comments, (TRS I), 6 FCC Rcd 4661, paragraph 20; published at 56 FR 36729 (August 1, 1991). The Commission concluded that it would not adopt a phase-out period for Baudot because many persons who rely on TRS have access only to Baudot terminals. Therefore, the Commission adopted the proposed rule requiring TRS to be capable of communicating in both ASCII and Baudot formats. TRS I, 6 FCC Rcd 4661, paragraph 20. The rule states that “TRS shall be capable of communicating with ASCII and Baudot format, at any speed generally in use.” 47 CFR 64.604(b)(1).

Subsequently, the Commission noted that new TTY transmission protocols had evolved since the initial TRS regulations were adopted, and therefore sought comment on whether these enhanced protocols, such as the V.18 protocol, should be required to be used by TRS providers. Improved TRS Order, 15 FCC Rcd 5197-5199, paragraphs 139-146. The Commission also noted that Baudot was still the dominant protocol. In the June 2003 Second Report and Order, the Commission stated that it did not receive adequate comments on this issue and sought further comment on “the extent to which innovative non-proprietary protocols for TTY products are currently being used, and any advantages or disadvantages such protocols may present to TRS providers.” Telecommunications Relay Services and Speech-to-Speech Services for Individuals with Hearing and Speech Disabilities, CC Docket No. 98-67 and CG Docket No. 03-123, Second Report and Order, Order on Reconsideration, and Notice of Proposed Rulemaking (Second Improved TRS Order), 18 FCC Rcd 12440-12441, paragraph 127; published at 68 FR 50093 (August 25, 2003) and 68 FR 50973 (August 25, 2003). In the 2004 TRS Report and Order, the Commission concluded that the record did not reflect that there were any new non-proprietary TTY protocols available on the market. Telecommunications Relay Services and Speech-to-Speech Services for Individuals with Hearing and Speech Disabilities, CC Docket Nos. 90-571 and 98-67, CG Docket No. 03-123 Report and Order, Order on Reconsideration, and Further Notice of Proposed Rulemaking (2004 TRS Report and Order), 19 FCC Rcd 12512, paragraph 88; published at 65 FR 53346 (September 1, 2004) and 65 FR 53382 (September 1, 2004). The Commission therefore declined to mandate the use of additional TTY protocols. At the same time, it recognized that it is desirable to make TRS “universal for all types of callers by ensuring its compatibility with various TTY protocols” and stated that it would continue to monitor this issue. 2004 TRS Report and Order, 19 FCC Rcd 12512, paragraph 89 (internal quotation marks omitted).

Presently, unlike with traditional TRS calls made using TTYs and the PSTN, the Commission has not mandated the use of particular protocols by VRS providers to ensure that all consumers and providers can communicate with each other. With the increasing use of VRS and changes in technology, we now seek comment on whether we should adopt specific protocols for VRS calls and if so, what protocol or protocols should be adopted.

As the provision of VRS has developed, nearly all VRS equipment (the VP-100, the D-Link, and webcams) uses the H.323 protocol, and all present providers use this protocol. As a result, this equipment is inherently interoperable with any of the VRS providers' service, and vice versa. Some newer videophone equipment, however, uses other protocols, such as SIP. A SIP device cannot, without translation, communicate with an H.323 device. Without a translation mechanism, if a VRS consumer has a SIP-based videophone the consumer will only be able to use the relay services of a provider that can handle SIP-based calls. Similarly, if a provider can only accept SIP-based calls, a consumer with an H.323-based videophone will not be able to use that provider's service, nor will a hearing person attempting to call a VRS user with an H.323-based videophone. As a result, it is clear that the development and use of videophones that use new Internet protocols that are incompatible with existing videophone protocols creates a barrier to realizing the goal of ensuring that all VRS providers can receive calls from, and make calls to, any VRS consumer, and ensuring that all VRS consumers can make calls through any VRS provider.

The Commission therefore seeks comment on whether, following the model of traditional TRS, it should mandate specific Internet protocols that VRS providers must use to receive and place VRS calls. The Commission notes that it does not regulate TRS equipment, but only providers to the extent they seek compensation from the Fund. If so, the Commission seeks comment on what standard or standards we should mandate, and an appropriate transition period for the adoption of these standards. The Commission also seeks comment on what costs may be involved if it requires all providers to be able to receive and make calls through specific multiple protocols, and whether such costs should be compensable by the Fund. The Commission further seeks comment on whether it should invite the providers, consumer groups, and other interested parties to work together to jointly propose standards to the Commission and if so, on the appropriate timing of such an endeavor.

The Commission also seeks comment on whether it can ensure interoperability in some way other than mandating protocols, and on any other issues relating to ensuring that VRS consumers can use VRS equipment to call any of the VRS providers, and the VRS providers can make calls to all VRS consumers.

Initial Regulatory Flexibility Analysis

As required by the Regulatory Flexibility Act of 1980, as amended (RFA), the Commission has prepared this present Initial Regulatory Flexibility Analysis (IRFA) of the possible significant economic impact on a substantial number of small entities by the policies and rules proposed in this FNPRM. See 5 U.S.C. 603. The RFA, see 5 U.S.C. 601-612, has been amended by the Small Business Regulatory Enforcement Fairness Act of 1996 (SBREFA), Public Law 104-121, 110 Statute 857 (1996). Written public comments are requested on this IRFA. Comments must be identified as responses to the IRFA and must be filed by the deadlines for comments on the FNPRM provided in paragraph 57 of the FNPRM. The Commission will send a copy of the FNPRM, including this IRFA, to the Chief Counsel for Advocacy of the Small Business Administration (SBA). See 5 U.S.C. 603(a).

Need for, and Objectives of, the Proposed Rules

Currently, it is difficult for a voice telephone user to call a VRS user because either the voice telephone user or the CA must know the IP address of the VRS user, and most VRS consumer's IP addresses are dynamic and therefore continually change. Some VRS have developed a solution to this problem by creating their own database of unique “proxy” number for their customers, which generally resemble telephone numbers. The provider has a method of ensuring that the proxy number will always correlate with the VRS user's IP address, even when the IP address changes. The record reflects, however, that these proxy numbers can be used only if the voice telephone user is using the VRS provider that assigned the consumer the proxy number.

The FNPRM therefore seeks comment on the feasibility of establishing and maintaining an open and a single, open, and global database of proxy numbers for VRS users so that a hearing person may call a VRS user through any VRS provider and without having to ascertain first the VRS user's current IP address. This would permit VRS users to have one number for their VRS equipment that voice telephone users could “call” through any VRS provider, similar to the way that traditional TRS calls are presently made to the PSTN number of TTY users. The Commission asks if there are aspects of proxy numbers that are dependent on functionalities outside of a database, such as functionalities in the user's equipment and, if so, the Commission further asks whether standardization should be required. The Commission also seeks comment on any other technological considerations that may be relevant to this issue.

In addition, the Commission seeks comment on the nature of the proxy numbers that might be used and how they might be administered. The Commission also asks whether this matter should be referred to North American Numbering Council (NANC). See 5 U.S.C. 603(a).

The Commission seeks comment on the maintenance and operation of such a database. The Commission specifically seeks comment on whether the maintenance and operation of such a proposed database be the responsibility of the Fund administrator, a separate entity, or a consortium of service providers. The Commission invites further comment on the role of the Commission in creating and maintaining the database, including whether participation by service providers should be mandatory so that all VRS users can receive incoming calls. Finally, the Commission asks what ongoing Commission oversight or regulation, if any, would be necessary.

The Commission notes that the development and use of videophones that use new Internet protocols are incompatible with existing videophone protocols, which creates a barrier to realizing the goal of ensuring that all VRS providers can receive calls from, and make calls to, any VRS consumer, and ensuring that all VRS consumers can make calls through any VRS provider.

The Commission therefore invites comment on whether it should mandate specific Internet protocols that VRS providers must use to receive and place VRS calls. The Commission notes that it does not regulate TRS equipment, but only providers to the extent they seek compensation from the Fund. If so, the Commission seeks comment on what standard or standards it should mandate, and an appropriate transition period for the adoption of these standards. The Commission seeks comment on what costs may be involved if it requires all providers to be able to receive and make calls through specific multiple protocols, and whether such costs should be compensable by the Fund. The Commission further seeks comment on whether it should invite the providers, consumer groups, and other interested parties to work together to jointly propose standards to the Commission and if so, on the appropriate timing of such an endeavor.

The Commission also seeks comment on whether it can ensure interoperability in some way other than mandating protocols, and on any other issues relating to ensuring that VRS consumers can use VRS equipment to call any of the VRS providers, and the VRS providers can make calls to all VRS consumers.

Legal Basis

The authority for the actions proposed in this FNPRM may be found in sections 1, 4(i) and (j), 201-205, 218 and 225 of the Communications Act of 1934, as amended, 47 U.S.C. 151, 154(i) and (j), 201-205, 218 and 225, and sections 64.601-64.608 of the Commission's regulations, 47 CFR 64.601-64.608.

Description and Estimate of the Number of Small Entities To Which the Proposed Rules Will Apply

The RFA directs agencies to provide a description of, and where feasible, an estimate of the number of small entities that may be affected by the proposed rules, if adopted. 5 U.S.C. 603(b)(3). The RFA generally defines the term “small entity” as having the same meaning as the terms “small business,” “small organization,” and “small governmental jurisdiction.” 5 U.S.C. 601(6). In addition, the term “small business” has the same meaning as the term “small business concern” under the Small Business Act. 5 U.S.C. 601(3) (incorporating by reference the definition of “small business concern” in the Small Business Act, 15 U.S.C. 632). Pursuant to the 5 U.S.C. 601(3), the statutory definition of a small business applies “unless an agency, after consultation with the Office of Advocacy of the Small Business Administration and after opportunity for public comment, establishes one or more definitions of such term which are appropriate to the activities of the agency and publishes such definition(s) in the Federal Register.” A small business concern is one which: (1) Is independently owned and operated; (2) is not dominant in its field of operation; and (3) satisfies any additional criteria established by the SBA. 15 U.S.C. 632.

As noted above, the FNPRM seeks comment on establishing a global database of proxy IP addresses for VRS users that would be available to all VRS providers. As a result, the Commission believes that the entities that may be affected by the proposed rules are only VRS providers. Neither the Commission nor the SBA has developed a definition of “small entity” specifically directed toward VRS providers. The closest applicable size standard under the SBA rules is for Wired Telecommunications Carriers, for which the small business size standard is all such firms having 1,500 or fewer employees. 13 CFR 121.201, NAICS Code 517110. Currently, there are eight VRS providers. Approximately two or fewer of these entities are small entities under the SBA size standard. See National Association for State Relay Administration (NASRA) Statistics. These numbers are estimates because of recent and pending mergers and partnerships in the telecommunications industry.

Description of Projected Reporting, Recordkeeping and Other Compliance Requirements

The proposed rule establishing an open, global database of VRS proxy numbers would require VRS providers to provide information to populate the database and to keep the information current. Further, the proposed rule mandating specific Internet protocols and or standards would require VRS providers to use compatible video protocols in order to receive and place VRS calls.

Steps Taken To Minimize Significant Economic Impact on Small Entities, and Significant Alternatives Considered

The RFA requires an agency to describe any significant, alternatives, specific to small businesses, that it has considered in reaching its proposed approach, which may include the following four alternatives (among others): “(1) The establishment of differing compliance or reporting requirements or timetables that take into account the resources available to small entities; (2) the clarification, consolidation, or simplification of compliance or reporting requirements under the rule for small entities; (3) the use of performance rather than design standards; and (4) an exemption from coverage of the rule, or any part thereof, for small entities.” 5 U.S.C. 603(c)(1)-(4).

As noted above, a hearing person may contact a VRS user by calling a VRS provider's toll free number. The VRS CA, however, will be able to establish the video-to-video link with the VRS user only if the CA knows the IP address of the VRS user's equipment. Often, that requires that the calling party know in advance the IP address of the VRS user so that the calling party can give that address to the VRS CA. Because most consumers' IP addresses are dynamic, the VRS consumer may not know the IP address of his or her VRS equipment at a particular time. Some providers have created their own database of “proxy” or “alias” numbers that associate with the IP addresses of their customers, even if a particular person's IP address is dynamic and changes. These numbers often resemble telephone numbers, which makes it easier for VRS users to give their “number” to hearing persons who may wish to call them via VRS. These databases, however, are maintained by the service provider and, generally, are not shared with other service providers. Therefore, a person desiring to call a VRS consumer via the consumer's proxy number can only use the services of the VRS provider that generates the number. See, e.g., Sorenson Ex Parte (January 6, 2006) at 16.

In this FNPRM, the Commission contemplates the feasibility of establishing a single, open, and global database of proxy numbers for VRS users that would be available to all service providers, so that a hearing person can call a VRS user through any VRS provider, and without having first to ascertain the VRS user's current IP address. In assessing the feasibility of this proposal, commenters should address both technical and the economic issues. Technical issues include the need for standard protocols so that the database system can work with all VRS equipment and services. The Commission asks whether there are aspects of proxy numbers that are dependent on functionalities outside of a database, such as functionalities in the user's equipment. If so, parties should address whether standardization is required. The Commission requests that commenters address any other technical issues they believe are relevant to this issue. The Commission considers the potential impact of these technical and economic issues on small business and the alternatives in easing the burden on small businesses.

The Commission also invites comment on nature of the proxy numbers that might be used and how they might be administered. As the Commission has noted, some VRS databases associate users with ten-digit telephone numbers. Others allow the user to create their own unique identification. CSD states that “in order for VRS to be functionally equivalent to voice telephone services, deaf and hard of hearing individuals using video broadband communication need uniform and static end-point numbers linked to the North American Numbering Plan (NANP) that will remain consistent across all VRS providers so that they can contact one another and be contacted to the same extent that Public Switched Telephone Network (PSTN) and VoIP users are able to identify and call one another.” CSD Ex Parte (October 20, 2005) at 3. Accordingly, CSD urges that this matter be referred to the North American Numbering Council (NANC). CSD Ex Parte (October 20, 2005) at 3. The Commission seeks comment on this approach and the alternatives to this approach that may have a minimal burden on small businesses. The Commission further seeks comment on the maintenance and operation of such a database. The Commission invites commenters to address whether this type of database should be the responsibility of the Fund administrator, a separate entity, or a consortium of service providers and whether the proposed responsibility would pose a significant burden on small businesses. The Commission asks that commenters that urge creation of an oversight committee should specify the scope and composition of the committee.

Finally, the Commission contemplates the role of the Commission in creating and maintaining the database. The Commission provisionally considers that specific rule changes may be necessary to establish the database and that the alternatives to these rule changes may be needed to alleviate the burden on small businesses. The Commission requests that commenters address whether participation by service providers should be mandatory so that all VRS users can receive incoming calls. The Commission considers the exemption of a mandatory participation by small entities as it may create a significant burden on small businesses. Finally, the Commission seeks comment on what ongoing Commission oversight or regulation, if any, would be necessary and on what would be the alternatives in considering the impact on small businesses.

Videophones and other devices that send video via the Internet to make VRS calls operate via specific call signaling protocols or standards that connect the two endpoints to the call. Internet telephony requires standards or protocols so that the end-user devices can communicate with each other. H.323 is one standard for transmitting real-time voice and video over packet-based networks. Another newer standard is SIP (Session Initiation Protocol). In declining to mandate the provision of VRS in the Improved TRS Order, the Commission stated because VRS was in its early stages of technological development the Commission would “permit market forces, not the Commission, to determine the technology and equipment best suited for the provision of [VRS], and allow [* * *] for the development of new and improved technology.” Improved TRS Order, 15 FCC Rcd at 5153, paragraph 23.

With traditional TRS, the Commission initially proposed requiring TTYs to be capable of communicating in either ASCII or Baudot formats. Telecommunications Services for Hearing-Impaired and Speech-Impaired Individuals, and the Americans with Disabilities Act of 1990, CC Docket No. 90-571, Notice of Proposed Rulemaking, 5 FCC Rcd 7187, 7188-7189, at paragraph 12 (November 16, 1990) (noting that although ASCII offers a higher data transfer rate, not all TTY users have compatible equipment and rely instead “on Baudot code equipment”). Baudot code was developed in the late 1800's and is a 5 bit coding scheme limited to 32 characters. ASCII was developed in the 1960's and is a 7 bit coding scheme specifically intended for data processing. See generally R. Horak, Communications Systems and Networks at 196-198 (3rd edition 2002). In adopting the TRS regulations, the Commission noted that both codes were being used by TTY users and existing TRS providers, although ASCII was the superior technology and had the advantage of being able to be used by personal computers. TRS I, 6 FCC Rcd at 4661, at paragraph 20. The Commission concluded that it would not adopt a phase-out period for Baudot because many persons who rely on TRS have access only to Baudot terminals.

Therefore, the Commission adopted the proposed rule requiring TRS to be capable of communicating in both ASCII and Baudot formats. TRS I, 6 FCC Rcd at 4661, at paragraph 20. The rule states that “TRS shall be capable of communicating with ASCII and Baudot format, at any speed generally in use.” 47 CFR 64.604(b)(1) of the Commission's rules. Subsequently, the Commission noted that new TTY transmission protocols had evolved since the initial TRS regulations were adopted, and therefore sought comment on whether these enhanced protocols, such as the V.18 protocol, should be required to be used by TRS providers. Improved TRS Order, 15 FCC Rcd at 5197-5199, paragraphs 139-146. The Commission also noted that Baudot was still the dominant protocol. Improved TRS Order, 15 FCC Rcd at 5197-5199, paragraphs 139-146. In the June 2003 Second Report and Order, the Commission stated that it did not receive adequate comments on this issue and sought further comment on “the extent to which innovative non-proprietary protocols for TTY products are currently being used, and any advantages or disadvantages such protocols may present to TRS providers.” Second Improved TRS Order, 18 FCC Rcd at 12440-12441, paragraph 127. In the 2004 TRS Report and Order, the Commission concluded that the record did not reflect that there were any new non-proprietary TTY protocols available on the market. 2004 TRS Report and Order, 19 FCC Rcd at 12512, paragraph 88. The Commission therefore declined to mandate the use of additional TTY protocols. At the same time, it recognized that it is desirable to make TRS “universal for all types of callers by ensuring its compatibility with various TTY protocols” and stated that it would continue to monitor this issue. 2004 TRS Report and Order, 19 FCC Rcd at 12512, paragraph 89 (internal quotation marks omitted).

Presently, unlike traditional TRS calls made using TTYs and the PSTN, the Commission has not mandated the use of particular protocols by VRS providers to ensure that all consumers and providers can communicate with each other. However, with the increasing use of VRS and changes in technology, the Commission now contemplates whether we should adopt specific protocols for VRS calls and if so, what protocol or protocols should be adopted. The Commission further contemplates the effects of adopting specific protocols on small businesses. As the provision of VRS has developed, nearly all VRS equipment (the VP-100, the D-Link, and webcams) uses the H.323 protocol, and all present providers use this protocol. As a result, this equipment is inherently interoperable with any of the VRS providers' service, and vice versa. Some newer videophone equipment, however, uses other protocols, such as SIP. A SIP device cannot, without translation, communicate with an H.323 device. Without a translation mechanism, if a VRS consumer has a SIP-based videophone the consumer will only be able to use the relay services of a provider that can handle SIP-based calls. Similarly, if a provider can only accept SIP-based calls, a consumer with an H.323-based videophone will not be able to use that provider's service, nor will a hearing person attempting to call a VRS user with an H.323-based videophone. As a result, it is clear that the development and use of videophones that use new Internet protocols that are incompatible with existing videophone protocols creates a barrier to realizing the goal of ensuring that all VRS providers can receive calls from, and make calls to, any VRS consumer, and ensuring that all VRS consumers can make calls through any VRS provider.

The Commission therefore contemplates, following the model of traditional TRS, mandating specific Internet protocols that VRS providers must use to receive and place VRS calls. The Commission notes that it does not regulate TRS equipment, but only providers to the extent they seek compensation from the Fund. If so, the Commission seeks comment on what standard or standards it should mandate, and on an appropriate transition period for the adoption of these standards. The Commission provisionally considers what costs may be involved if it required all providers to be able to receive and make calls through specific multiple protocols, and whether such costs should be compensable by the Fund as a way to ease financial burden on small businesses. The Commission further seeks comment on whether it should invite the providers, consumer groups, and other interested parties to work together to jointly propose standards to the Commission and if so, on the appropriate timing of such an endeavor.

The Commission also considers the alternatives of ensuring interoperability other than mandating protocols. The Commission further asks for comments on any other issues relating to ensuring that VRS consumers can use VRS equipment to call any of the VRS providers, and the VRS providers can make calls to all VRS consumers. The Commission also requests for comments that will propose any alternative that will minimize adverse economic impact on small entities.

Federal Rules That May Duplicate, Overlap, or Conflict With the Proposed Rules

None.

Ordering Clauses

Pursuant to the authority contained in sections 1.2 and 225 of the Communications Act of 1934, as amended, 47 U.S.C. 151, 152 and 225, this further notice of proposed rulemaking is adopted.

The Commission's Consumer & Governmental Affairs Bureau, Reference Information Center, shall send a copy of this Further Notice of Proposed Rulemaking, including the Initial Regulatory Flexibility Analysis, to the Chief Counsel for Advocacy of the Small Business Administration.

Federal Communications Commission.
Marlene H. Dortch,
Secretary.

[FR Doc. E6-8374 Filed 5-30-06; 8:45 am]

BILLING CODE 6712-01-P